DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft

DATES: Comments must be received on or before July 19, 2013.

Address Comments To: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on June 12, 2013.
Donald Burger,
Chief, General Approvals and Permits.

Application No. | Docket No. | Applicant | Regulation(s) affected | Nature of special permits thereof
New Special Permits
15862-N |  | Veolia ES Technical Solutions, L.L.C. Flanders, NJ | 49 CFR 173.12(b)(3) | To authorize the transportation in commerce of Division 6.1, PG I materials in lab packs by motor vehicle, rail freight and cargo vessel. (modes 1, 2, 3)
15863-N |  | Baker Hughes Oilfield Operations Inc. Houston, TX | 49 CFR (173.301(a), 173.301(f) and 173.302a | To authorize the transportation in commerce of compressed nitrogen in a non-DOT specification cylinder that is not equipped with a pressure relief device. (modes 1, 2, 3, 4)
15864-N |  | Agfa HealthCare Corporation Greenville, SC | 49 CFR 173.213 | To authorize the transportation of an Environmentally hazardous substance in non-DOT specification packaging. (modes 1, 4)
15866-N |  | General Motors LLC Warren, MI | 49 CFR 173.185 | To authorize the transportation in commerce of certain damaged or defective lithium batteries. (modes 1, 2, 3)
15867-N |  | FIBA Technologies, Inc. Millbury, MA | 49 CFR 180.501(b), 180.505 and 180.509(d)(1) and (f)(1) | To authorize the requalification of DOT Specification 107A tank car tanks by the acoustic emission test method on a mobile basis. (mode 1)
15869-N |  | Mercedes-Benz USA, LLC (MBUSA) | 49 CFR 172.102, Special provision A54 | To authorize the transportation in commerce of lithium batteries exceeding the 35 Kg maximum weight authorized for transportation by cargo air. (mode 4)
15870-N |  | Ram Systems Jefferson, OR | 49 CFR 49 CFR Table § 172.101, Column (9B), § 172.204(c)(3), § 173.27(b)(2) § 175.30(a)(1) § 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15872-N |  | KMG Electronic Chemicals Pueblo, CO | 49 CFR 173.158(f)(1) | To authorize the transportation in commerce of 69.5% Nitric acid in non-DOT specification one-time use HDPE plastic drums. (mode 1)
15873-N |  | JiangXi Oxygen Plant Co., Ltd. Jiangxi Province | 49 CFR 178.274(b) and 178.276(b)(1) | To authorize the manufacture, marking, sale and use of UN portable tanks conforming to portable tank code T50 that have been designed, constructed and stamped in accordance with Section VIII, Division 2 of the ASME Code for the transportation in commerce Division 2.1 and 2.2 materials. (modes 1, 2, 3, 4)
15874-N |  | Summit Helicopter, Incorporated Pacoima, CA | 49 CFR 49 CFR Table § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15875-N |  | Point of View Helicopter Services | 49 CFR 49 CFR Table § 172.101, Column (9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the US only, without being subject to hazard communication requirements, quantity limitations and certain loading and stowage requirements. (mode 4)
15876-N |  | JiangXi Oxygen Plant Co., Ltd. Jiangxi | 49 CFR 178.274(b) and 178.276(b)(1) | To authorize the manufacture, marking, sale and use of UN portable tanks conforming to portable tank code T50 that have been designed, constructed and stamped in accordance with Section VIII, Division 1 of the ASME Code with a design margin of 3.5:1 for the transportation in commerce Division 2.1 and 2.2 materials. (modes 1, 2, 3, 4)

[FR Doc. 2013-14356 Filed 6-18-13; 8:45 am]

BILLING CODE 4909-60-M